FEDERAL COMMUNICATIONS COMMISSION

47 CFR Part 73

[DA 02-368; MM Docket No. 01-183; RM-10192]

Radio Broadcasting Services; Rule, TX

AGENCY: Federal Communications Commission.

ACTION: Final rule.

SUMMARY: This document allots Channel 239C2 to Rule, Texas, as that community's first local aural transmission service, in response to a petition for rule making filed by Katherine Pyeatt. See 66 FR 42621, August 14, 2001. The allotment of Channel 239C2 at Rule, Texas, requires a site restriction 12.7 kilometers (7.9 miles) east of the community, utilizing coordinates 33-13-01 NL and 99-45-45 WL.

DATES: Effective April 8, 2002. A filing window for Channel 239C2 at Rule, Texas, will not be opened at this time. Instead, the issue of opening the allotment for auction will be addressed by the Commission in a subsequent Order.

FOR FURTHER INFORMATION CONTACT: Nancy Joyner, Mass Media Bureau, (202) 418-2180. Questions related to the application filing process for Channel 239C2 at Rule, Texas, should be addressed to the Audio Services Division, (202) 418-2700.

SUPPLEMENTARY INFORMATION: This is a synopsis of the Commission's Report and Order, MM Docket No. 01-183, adopted February 6, 2002, and released February 22, 2002. The full text of this Commission decision is available for inspection and copying during normal business hours in the FCC's Reference Center (Room CY-A257), 445 Twelfth Street, SW., Washington, DC. The complete text of this decision may also be purchased from the Commission's copy contractor, Qualtex International, Portals II, 445 12th Street, SW., Room CY-B402, Washington, DC 20554, telephone (202) 863-2893.

List of Subjects in 47 CFR Part 73

Radio broadcasting.

Part 73 of title 47 of the Code of Federal Regulations is amended as follows:

PART 73—RADIO BROADCAST SERVICES

1. The authority citation for part 73 continues to read as follows:

Authority: 47 U.S.C. 154, 303, 334, 336.

§ 73.202 [Amended]

2. Section 73.202(b), the Table of FM Allotments under Texas, is amended by adding Rule, Channel 239C2.

Federal Communications Commission.
John A. Karousos,
Chief, Allocations Branch, Policy and Rules Division, Mass Media Bureau.

[FR Doc. 02-5163 Filed 3-4-02; 8:45 am]

BILLING CODE 6712-01-P